SECURITIES AND EXCHANGE COMMISSION

[Release No. 34-88643; File No. SR-CboeEDGA-2019-013]

Self-Regulatory Organizations; Cboe EDGA Exchange, Inc.; Notice of Withdrawal of a Proposed Rule Change To Introduce a Small Retail Broker Distribution Program

April 15, 2020.

On August 1, 2019, Cboe EDGA Exchange, Inc. (“Exchange” or “EDGA”) filed with the Securities and Exchange Commission (“Commission”), pursuant to Section 19(b)(1) of the Securities Exchange Act of 1934 (“Act”),¹ and Rule 19b-4 thereunder,² a proposed rule change to amend the EDGA fee schedule to introduce a Small Retail Broker Distribution Program. The proposed rule change was immediately effective upon filing with the Commission pursuant to Section 19(b)(3)(A) of the Act.³ The proposed rule change was published for comment in the Federal Register on August 20, 2019.⁴ The Commission received no comment letters regarding the proposed rule change. On September 30, 2019, the Commission issued an order temporarily suspending the proposed rule change pursuant to Section 19(b)(3)(C) of the Act ⁵ and simultaneously instituting proceedings under Section 19(b)(2)(B) of the Act ⁶ to determine whether to approve or disapprove the proposed rule change (“OIP”).⁷ The Commission received no comment letters in response to the OIP. On February 12, 2020, pursuant to Section 19(b)(2) of the Act,⁸ the Commission designated a longer period within which to approve or disapprove the proposed rule change.⁹ On April 9, 2020, the Exchange withdrew the proposed rule change (SR-CboeEDGA-2019-013).

¹ 15 U.S.C. 78s(b)(1).

² 17 CFR 240.19b-4.

³ 15 U.S.C. 78s(b)(3)(A).

⁴ See Securities Exchange Act Release No. 86676 (August 14, 2019), 84 FR 43218 (August 20, 2019).

⁵ 15 U.S.C. 78s(b)(3)(C).

⁶ 15 U.S.C. 78s(b)(2)(B).

⁷ See Securities Exchange Act Release No. 87165 (September 30, 2019), 84 FR 53205 (October 4, 2019).

⁸ 15 U.S.C. 78s(b)(2).

⁹ See Securities Exchange Act Release No. 88177 (February 12, 2020), 85 FR 9493 (February 19, 2020).

For the Commission, by the Division of Trading and Markets, pursuant to delegated authority.¹⁰
¹⁰ 17 CFR 200.30-3(a)(57) and (58).
J. Matthew DeLesDernier,
Assistant Secretary.

[FR Doc. 2020-08380 Filed 4-20-20; 8:45 am]

BILLING CODE 8011-01-P